FEDERAL COMMUNICATIONS COMMISSION

Radio Broadcasting Services; AM or FM Proposals To Change the Community of License

AGENCY: Federal Communications Commission.

ACTION: Notice.

SUMMARY: The following applicants filed AM or FM proposals to change the community of license: CRANESVILLE BLOCK COMPANY, INC., Station WKAJ, Facility ID 160470, BMP-20110207AET, From LITTLE FALLS, NY, To SAINT JOHNSVILLE, NY; CUMULUS LICENSING LLC, Station KRRF, Facility ID 10329, BPH-20110218ABV, From GOLETA, CA, To OAK VIEW, CA; CUMULUS LICENSING LLC, Station KRUZ, Facility ID 3159, BPH-20110218ABW, From SANTA BARBARA, CA, To GOLETA, CA; EDWARD DE LA HUNT, Station NEW, Facility ID 165964, BNPH-20060308AIA, From RUGBY, ND, To CRARY, ND; JEM BROADCASTING CO., INC, Station 970912MF, Facility ID 88358, BMPH-20110216ABY, From GREENWOOD, AR, To GREENLAND, AR; LAZER LICENSES, LLC, Station KCAL, Facility ID 55416, BP-20110215AES, From REDLANDS, CA, To GRAND TERRACE, CA; M&M BROADCASTERS, LTD., Station KWBT, Facility ID 21494, BPH-20091211AFR, From MEXIA, TX, To BELLMEAD, TX; MICHAEL GREENE, Station KOYD, Facility ID 166015, BMPH-20110128ABF, From GACKLE, ND, To TOWER CITY, ND; RADIO 74 INTERNATIONALE, Station KGHW, Facility ID 177344, BMPED-20110128AEK, From PIERRE, SD, To ONIDA, SD.

DATES: Comments may be filed on or before May 16, 2011.

ADDRESSES: Federal Communications Commission, 445 Twelfth Street, SW., Washington, DC 20554.

FOR FURTHER INFORMATION CONTACT: Tung Bui, Electronic Engineer, 445 12th Street, SW., Room 2-B450, Washington, DC 20554, (202) 418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC 20554, telephone 1-800-378-3160 or http://www.BCPIWEB.com.

Federal Communications Commission.
James D. Bradshaw,
Deputy Chief, Audio Division, Media Bureau.

[FR Doc. 2011-6147 Filed 3-15-11; 8:45 am]

BILLING CODE 6712-01-P